DEPARTMENT OF ENERGY

Federal Energy Regulatory Commission

[Docket Nos. CP03-33-000, CP03-34-000 and CP03-35-000]

Wyckoff Gas Storage Company, LLC; Notice of Intent To Prepare an Environmental Assessment for the Proposed Wyckoff Gas Storage Project and Request for Comments on Environmental Issues

February 10, 2003.

The staff of the Federal Energy Regulatory Commission (FERC or Commission) will prepare an environmental assessment (EA) that will discuss the environmental impacts of the Wyckoff Gas Storage Project involving construction and operation of facilities by Wyckoff Gas Storage Company, LLC (Wyckoff) in Steuben County, New York.¹ These facilities would consist of about 16.2 miles of various diameter pipeline, 9,470 horsepower (hp) of compression, 9 gas injection/withdrawal wells, and 3 observation wells. This EA will be used by the Commission in its decision-making process to determine whether the project is in the public convenience and necessity.

¹ Wyckoff's application was filed with the Commission under Section 7 of the Natural Gas Act and part 157 of the Commission's regulations.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice Wyckoff provided to landowners. This fact sheet addresses a number of typically asked questions, including the use of eminent domain and how to participate in the Commission's proceedings. It is available for viewing on the FERC Internet Web site (http://www.ferc.gov).

Summary of the Proposed Project

Wyckoff requests authorization to construct and operate a natural gas storage facility in two nearly depleted reservoirs in Steuben County, New York, capable of storing up to 6 billion cubic feet of natural gas (CP03-33-000). Wyckoff also requests a blanket certificate under part 157 of the regulations (CP03-34-000) to permit Wyckoff to construct, acquire, and operate additional facilities following construction of the storage facilities; and a blanket certificate under part 284 of the regulations (CP03-35-000) to provide storage services on behalf of others and approval of the filed FERC gas tariff under which Wyckoff would operate to provide open access storage services. Wyckoff's storage facilities would consist of:

—9,470 horsepower of compression and dehydration facilities at a new compressor station;

—drilling and completion of 6 new injection/withdrawal wells and the re-completion and conversion of 3 existing wells;

—drilling 3 observation wells;

—constructing 3.5 miles of 20-inch-diameter pipeline and bi-directional metering facilities near the intersection of pipelines owned by Tennessee Gas Pipeline Company (Tennessee) and Columbia Gas Transmission Corporation (Columbia) in the town of Jasper, New York;

—an interconnection/meter station near the Tennessee and Columbia point of intersection;

—constructing 8 miles of 20-inch-diameter pipeline interconnecting pipeline and metering facilities operated by Dominion Transmission, Inc. (Dominion);

—an interconnection/metering station at the Dominion point of interconnection; and

—constructing 4.7 miles of 6-inch-diameter well lines in the town of Jasper, New York.

There are no nonjurisdictional facilities identified for the project.

The location of the project facilities is shown in appendix 1.² Land Requirements for Construction

² The appendices referenced in this notice are not being printed in the Federal Register. Copies are available on the Commission's Web site at the “FERRIS” link or from the Commission's Public Reference and Files Maintenance Branch, 888 First Street, NE., Washington, DC 20426, or call (202) 502-8371. For instructions on connecting to FERRIS refer to the last page of this notice. Copies of the appendices were sent to all those receiving this notice in the mail.

Construction of the proposed facilities would require about 132.3 acres of land. Following construction, about 85.6 acres would be maintained as new permanent right-of-way and aboveground facility sites. The remaining 46.7 acres of land would be restored and allowed to revert to its former use. The areal extent of the gas storage reservoir is approximately 584 acres.

The EA Process

The National Environmental Policy Act (NEPA) requires the Commission to take into account the environmental impacts that could result from an action whenever it considers the issuance of a Certificate of Public Convenience and Necessity. NEPA also requires us ³ to discover and address concerns the public may have about proposals. This process is referred to as “scoping.” The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

³ ”We”, “us”, and “our” refer to the environmental staff of the Office of Energy Projects (OEP).

The EA will discuss impacts that could occur as a result of the construction and operation of the proposed project under these general headings:

—Geology and soils

—land use

—water resources, fisheries, and wetlands

—cultural resources

—vegetation and wildlife

—air quality and noise

—endangered and threatened species

—hazardous wastes

—water resources and wetlands

—public safety

We will also evaluate possible alternatives to the proposed project or portions of the project, and make recommendations on how to lessen or avoid impacts on the various resource areas.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section below.

Currently Identified Environmental Issues

We have already identified several issues that we think deserve attention based on a preliminary review of the proposed facilities and the environmental information provided by Wyckoff. This preliminary list of issues may be changed based on your comments and our analysis.

—Two nearby residences and one church would be impacted by noise from the new compressor station.

—Eight perennial streams would be crossed by the pipelines.

—Twenty-four wetlands would be affected by the project affecting about 1.6 acres.

—A total of about 40.3 acres of agricultural land consisting of primarily hay and cornfields would be affected by the project.

—A segment of National Fuel Gas Supply Corporation's existing pipeline would be abandoned in place where it would be paralleled by the proposed pipeline.

—The pipeline route would pass within 200 feet of three year round residences and two seasonal hunting camps.

Public Participation

You can make a difference by providing us with your specific comments or concerns about the project. By becoming a commentor, your concerns will be addressed in the EA and considered by the Commission. You should focus on the potential environmental effects of the proposal, alternatives to the proposal (including alternative locations/routes), and measures to avoid or lessen environmental impact. The more specific your comments, the more useful they will be. Please carefully follow these instructions to ensure that your comments are received in time and properly recorded:

Send an original and two copies of your letter to: Magalie R. Salas, Secretary, Federal Energy Regulatory Commission, 888 First St., NE., Room 1A, Washington, DC 20426.

—Label one copy of the comments for the attention of Gas 2 Branch.

—Reference Docket No. CP03-33-000.

—Mail your comments so that they will be received in Washington, DC on or before March 14, 2003.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created by clicking on “Login to File” and then “New User Account.”

If you do not want to send comments at this time but still want to remain on our mailing list, please return the Information Request. If you do not return the Information Request, you will be taken off the mailing list.

Becoming an Intervenor

In addition to involvement in the EA scoping process, you may want to become an official party to the proceeding known as an “intervenor.” Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2).⁴ Only intervenors have the right to seek rehearing of the Commission's decision.

⁴ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Environmental Mailing List

This notice is being sent to individuals, organizations, and government entities interested in and/or potentially affected by the proposed project. It is also being sent to all identified potential right-of-way grantors. By this notice we are also asking governmental agencies, especially those in appendix 3, to express their interest in becoming cooperating agencies for the preparation of the EA.

Additional Information

Additional information about the project is available from the Commission's Office of External Affairs, at 1-866-208-FERC or on the FERC Internet Web site (http://www.ferc.gov) using the FERRIS link. Click on the FERRIS link, enter the docket number excluding the last three digits in the Docket Number field. Be sure you have selected an appropriate date range. For assistance with FERRIS, the FERRIS helpline can be reached at 1-866-208-3676, TTY (202) 502-8659, or at FERCOnlineSupport@ferc.gov. The FERRIS link on the FERC Internet Web site also provides access to the texts of formal documents issued by the Commission, such as orders, notices, and rulemakings.

Magalie R. Salas,
Secretary.

[FR Doc. 03-3722 Filed 2-13-03; 8:45 am]

BILLING CODE 6717-01-P